DEPARTMENT OF COMMERCE

Bureau of Industry and Security

15 CFR Part 744

[Docket No. 150427401-5401-01]

RIN 0694-AG61

Addition of Certain Persons to the Entity List; and Removal of Certain Persons From the Entity List Based on Removal Requests

AGENCY: Bureau of Industry and Security, Commerce.

ACTION: Final rule.

SUMMARY: This rule amends the Export Administration Regulations (EAR) by adding ten persons to the Entity List. The ten persons who are added to the Entity List have been determined by the U.S. Government to be acting contrary to the national security or foreign policy interests of the United States. These ten persons will be listed on the Entity List under the destinations of China and South Korea.

This final rule also removes four persons from the Entity List, as the result of requests for removal submitted by these persons, a review of information provided in the removal requests in accordance with the procedure for requesting removal or modification of an Entity List entity, and further review conducted by the End-User Review Committee (ERC).

DATES: This rule is effective July 28, 2015.

FOR FURTHER INFORMATION CONTACT: Chair, End-User Review Committee, Office of the Assistant Secretary, Export Administration, Bureau of Industry and Security, Department of Commerce, Phone: (202) 482-5991, Fax: (202) 482-3911, Email: ERC@bis.doc.gov.

SUPPLEMENTARY INFORMATION:

Background

The Entity List (Supplement No. 4 to Part 744) notifies the public about entities that have engaged in activities that could result in an increased risk of the diversion of exported, reexported or transferred (in-country) items to weapons of mass destruction (WMD) programs. Since its initial publication, grounds for inclusion on the Entity List have expanded to include activities sanctioned by the State Department and activities contrary to U.S. national security or foreign policy interests. Certain exports, reexports, and transfers (in-country) to entities identified on the Entity List require licenses from BIS and are usually subject to a policy of denial. The availability of license exceptions in such transactions is very limited. The license review policy for each entity is identified in the license review policy column on the Entity List and the availability of license exceptions is noted in the Federal Register notices adding persons to the Entity List. BIS places entities on the Entity List based on certain sections of part 744 (Control Policy: End-User and End-Use Based) and part 746 (Embargoes and Other Special Controls) of the EAR.

The ERC, composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

This rule implements the decision of the ERC to add ten persons to the Entity List. These ten persons are being added on the basis of § 744.11 (License requirements that apply to entities acting contrary to the national security or foreign policy interests of the United States) of the EAR. The ten entries added to the Entity List consist of eight entries in China and two entries in South Korea.

The ERC reviewed § 744.11(b) (Criteria for revising the Entity List) in making the determination to add these ten persons to the Entity List. Under that paragraph, persons for whom there is reasonable cause to believe, based on specific and articulable facts, have been involved, are involved, or pose a significant risk of being or becoming involved in, activities that are contrary to the national security or foreign policy interests of the United States and those acting on behalf of such persons may be added to the Entity List. Paragraphs (b)(1) through (b)(5) of § 744.11 include an illustrative list of activities that could be contrary to the national security or foreign policy interests of the United States.

Pursuant to § 744.11 of the EAR, the ERC determined that the following eight persons under the destination of China and two persons under the destination of South Korea be added to the Entity List for actions contrary to the national security or foreign policy interests of the United States.

Specifically, for the eight additions under the destination of China, there is reasonable cause to believe, based on specific and articulable facts, that these eight persons have violated U.S. export laws by illicitly procuring sensitive U.S. items for unauthorized end use in China and Iran. For the two additions under the destination of South Korea, there is reasonable cause to believe, based on specific and articulable facts that these two persons have violated U.S. export laws by supporting the illicit procurement efforts of ballistic-missile related parties in Iran since at least 2011.

Pursuant to § 744.11(b)(5) of the EAR, the ERC determined that the conduct of these ten persons raises sufficient concern that prior review of exports, reexports, or transfers (in-country) of items subject to the EAR involving these persons, and the possible imposition of license conditions or license denials on shipments to the persons, will enhance BIS's ability to prevent violations of the EAR.

For the ten persons recommended for addition on the basis of § 744.11, the ERC specified a license requirement for all items subject to the EAR and a license review policy of presumption of denial. The license requirements apply to any transaction in which items are to be exported, reexported, or transferred (in-country) to any of the persons or in which such persons act as purchaser, intermediate consignee, ultimate consignee, or end-user. In addition, no license exceptions are available for exports, reexports, or transfers (in-country) to the persons being added to the Entity List in this rule.

This final rule adds the following ten persons to the Entity List:

China

(1) Beijing FJR Optoelectronic Technology Company Ltd, a.k.a, the following three aliases:

—FJIR Optoelectronic Technology Company Ltd.;

—Beijing Fu Jerry; and

—Fu Jirui.

No. 2A Zhonghuan South Road, Wangjing, Chaoyang District, Beijing, China, 100102; and Room 302 Office, Bldg. 11, No. 4, Anningzhuang Rd, Beijing, China, 100085; and Beijing Shunyi district airport into 25-4, Huiyuan, 25th floor, 100028, Beijing; and 25-4 Yuhua Rd, 25th Floor, Shunyi District, Beijing, China 101318;

(2) Beijing Opto-Electronics Technology Company, a.k.a., the following one alias:

—BOET.

No. 4, Jiuxianqiao Road, Chaoyang District, Beijing, China, 100015;

(3) BOP Opto-Electronics Technology Company, a.k.a., the following one alias

—Beijing BOP Electro-Optics.

No. 10, Jiuxianqiao North Road, Chaoyang District, Beijing, China, 100016; and

No. 4 Jiuxianqiao Road, Chaoyang District, Beijing, China, 100015;

(4) China Electronic Technology Group Corporation No. 11 Research Institute, a.k.a, the following three aliases, and including the named subordinate institutions:

—North China Research Institute of Electro-Optics (NCRIEO);

—China North Research Institute of Electro-Optics; and

—CETC 11th Research Institute (CETC 11th RI).

Subordinate institution Beijing Laiyin Company Ltd, a.k.a., the following one alias,

—Beijing North China Lai Yin Opto-Electronics Technology Company;

Subordinate institution China Electronics Technology Corporation (CETC) Infrared Engineering and Technology Company, a.k.a., the following one alias:

—CETC Infrared or CETC IR.

No. 10, Jiuxianqiao North Road, Chaoyang District, Beijing, China, 100016; and

No. 4 Jiuxianqiao Road, Chaoyang District, Beijing, China, 100015; and Electronic City of Zhong Guan Cun Technical Zone, Beijing, China, 100015.

(5) China National Commercial New Tone Trading Company Ltd, Room 616, 2nd Building, No. 45 Fuxingmennei St, Beijing, China, 100801; and No. 45 Fuxing Mennei Avenue, Xicheng District, Beijing, China, 100801;

(6) Fuyuan Huang, No. 2A Zhonghuan South Road, Wangjing, Chaoyang District, Beijing, China, 100102; and Room 302 Office, Bldg 11, No. 4, Anningzhuang Rd, Beijing, China, 100085;

(7) Yin Zhao, No. 2A Zhonghuan South Road, Wangjing, Chaoyang District, Beijing, China, 100102; and Room 302 Office, Bldg 11, No. 4, Anningzhuang Rd, Beijing, China, 100085; and

(8) Yiwu Tianying Optical Instrument Company, Room 301, 1 Unit, 18 Building, Houcheng Yi Qu, Jiangdong Street, Yiwu City, Zhejiang, China, 322000.

South Korea

(1) Korea Automation Industry (KAI),

D-304, Songdo BRC Smart Valley 30 Songdomirae-ro Yeonsu-gu, Incheon, South Korea 406-840; and 4F Miejeong B/D, 405-216, MOK 1-Dong, Yangcheon-Ku, Seoul, South Korea; and Number 102-704, Daewoo 2nd, 925-7 Dongchundong, Yeonsu-Ku, Incheon, South Korea; and

(2) Joseph Choi, aka Yo-so'p Ch'oe,

D-304, Songdo BRC Smart Valley 30 Songdomirae-ro Yeonsu-gu, Incheon, South Korea 406-840; and 4F Miejeong B/D, 405-216, MOK 1-Dong, Yangcheon-Ku, Seoul, South Korea.

Removals From the Entity List

This rule implements a decision of the ERC to remove four persons, Shanghai Hengtong Optics Technology Limited, located in China; and Zener Electrical & Electronics, Zener Electronics Services, and Zener Navcom, located in the United Arab Emirates (UAE), from the Entity List on the basis of removal requests submitted by these listed persons. Based upon a review of the information provided in the removal requests in accordance with § 744.16 (Procedure for requesting removal or modification of an Entity List entity) and further review conducted by the ERC, the ERC determined that these four persons should be removed from the Entity List.

For the first ERC approved removal, Shanghai Hengtong Optics Technology Limited was added to the Entity List on May 1, 2014 (79 FR 24563) pursuant to § 744.11(b)(2) and (b)(5) of the EAR. The ERC's decision to remove Shanghai Hengtong from the Entity List was based on information provided by the company in its appeal request pursuant to § 744.16, forthcoming information provided by Shanghai Hengtong in subsequent cooperative exchanges, and further reviews conducted by the ERC.

For the three ERC approved removals for Zener Electronics Services, Zener Electrical & Electronics, and Zener Navcom, these persons were added to the Entity List on June 5, 2014 (79 FR 32441), pursuant to § 744.11(b)(1), (b)(2) and (b)(4) of the EAR. The ERC's decision to remove Zener Electronics Services, Zener Electrical & Electronics, and Zener Navcom from the Entity List was based on the information provided by the companies in their appeal request, forthcoming information by the companies in subsequent cooperative exchanges, and further reviews conducted by the ERC.

The Zeneer related entity removals in this rule are limited to the three entities specified in this rule. This rule does not remove any of the other Zener related entities currently on the Entity List (Zener Marine, Zener One Net located in the UAE, and Zener Lebanon located in Lebanon), which were also added to the Entity List on June 5, 2014 (79 FR 32441) and are still subject to the Entity List-based license requirements.

In accordance with § 744.16(c), the Deputy Assistant Secretary for Export Administration has sent written notification to these four persons, informing these persons of the ERC's decision to remove these persons from the Entity List.

This final rule implements the decision to remove the following four persons located in China and the UAE from the Entity List:

China

(1) Shanghai Hengtong Optics Technology Limited, a.k.a., the following two aliases:

—Shanghai Hengtong Group; and

—Shanghai Hengtong Optic-Electric Co., Ltd.

12F Tower A, Fareast International Plaza, 319 Xianxia Road, Shanghai, China.

United Arab Emirates

(1) Zener Electrical & Electronics,

P.O. Box 389, Dubai, U.A.E.; and P.O. Box 3905, Abu Dhabi, U.A.E.; and Zener Electrical & Electronics Service Building, Liwa Street, Umm al Nar area, Abu Dhabi, U.A.E.;

(2) Zener Electronics Services,

Al Sharafi Building, Khalid bin Walid Rd, Dubai, U.A.E.; and P.O. Box 389, Dubai, U.A.E.; and P.O. Box 3905, Abu Dhabi, U.A.E.; and Plot S20206, Dubai, U.A.E.; and

(3) Zener Navcom,

P.O. Box 389, Dubai, U.A.E.; and P.O. Box 3905, Abu Dhabi, U.A.E.; and Plot S20206, Dubai, U.A.E.

The removal of the four entities referenced above, which was approved by the ERC, eliminates the existing license requirements in Supplement No. 4 to part 744 for exports, reexports and transfers (in-country) to these entities. However, the removal of these four entities from the Entity List does not relieve persons of other obligations under part 744 of the EAR or under other parts of the EAR. Neither the removal of an entity from the Entity List nor the removal of Entity List-based license requirements relieves persons of their obligations under General Prohibition 5 in § 736.2(b)(5) of the EAR which provides that, “you may not, without a license, knowingly export or reexport any item subject to the EAR to an end-user or end-use that is prohibited by part 744 of the EAR.” Additionally these removals do not relieve persons of their obligation to apply for export, reexport or in-country transfer licenses required by other provisions of the EAR. BIS strongly urges the use of Supplement No. 3 to part 732 of the EAR, “BIS's `Know Your Customer' Guidance and Red Flags,” when persons are involved in transactions that are subject to the EAR.

Savings Clause

Shipments of items removed from eligibility for a License Exception or export or reexport without a license (NLR) as a result of this regulatory action that were en route aboard a carrier to a port of export or reexport, on July 28, 2015, pursuant to actual orders for export or reexport to a foreign destination, may proceed to that destination under the previous eligibility for a License Exception or export or reexport without a license (NLR).

Export Administration Act

Although the Export Administration Act expired on August 20, 2001, the President, through Executive Order 13222 of August 17, 2001, 3 CFR, 2001 Comp., p. 783 (2002), as amended by Executive Order 13637 of March 8, 2013, 78 FR 16129 (March 13, 2013) and as extended by the Notice of August 7, 2014, 79 FR 46959 (August 11, 2014), has continued the Export Administration Regulations in effect under the International Emergency Economic Powers Act. BIS continues to carry out the provisions of the Export Administration Act, as appropriate and to the extent permitted by law, pursuant to Executive Order 13222 as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and carries a burden estimate of 43.8 minutes for a manual or electronic submission. Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. For the ten persons added to the Entity List in this final rule, the provisions of the Administrative Procedure Act (5 U.S.C. 553) requiring notice of proposed rulemaking, the opportunity for public comment and a delay in effective date are inapplicable because this regulation involves a military or foreign affairs function of the United States. (See 5 U.S.C. 553(a)(1)). BIS implements this rule to protect U.S. national security or foreign policy interests by preventing items from being exported, reexported, or transferred (in-country) to the persons being added to the Entity List. If this rule were delayed to allow for notice and comment and a delay in effective date, then entities being added to the Entity List by this action would continue to be able to receive items without a license and to conduct activities contrary to the national security or foreign policy interests of the United States. In addition, because these parties may receive notice of the U.S. Government's intention to place this entity on the Entity List if a proposed rule is published, doing so would create an incentive for these persons to either accelerate receiving items subject to the EAR to conduct activities that are contrary to the national security or foreign policy interests of the United States, or to take steps to set up additional aliases, change addresses, and other measures to try to limit the impact of the listing on the Entity List once a final rule was published. Further, no other law requires that a notice of proposed rulemaking and an opportunity for public comment be given for this rule. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

5. For the four removals from the Entity List in this final rule, pursuant to the Administrative Procedure Act (APA), 5 U.S.C. 553(b)(3)(B), BIS finds good cause to waive requirements that this rule be subject to notice and the opportunity for public comment because it would be contrary to the public interest.

In determining whether to grant removal requests from the Entity List, a committee of U.S. Government agencies (the End-User Review Committee (ERC)) evaluates information about and commitments made by listed persons requesting removal from the Entity List, the nature and terms of which are set forth in 15 CFR part 744, Supplement No. 5, as noted in 15 CFR 744.16(b). The information, commitments, and criteria for this extensive review were all established through the notice of proposed rulemaking and public comment process (72 FR 31005 (June 5, 2007) (proposed rule), and 73 FR 49311 (August 21, 2008) (final rule)). These four removals have been made within the established regulatory framework of the Entity List. If the rule were to be delayed to allow for public comment, U.S. exporters may face unnecessary economic losses as they turn away potential sales because the customer remained a listed person on the Entity List even after the ERC approved the removal pursuant to the rule published at 73 FR 49311 on August 21, 2008. By publishing without prior notice and comment, BIS allows the applicants to receive U.S. exports immediately since these four applicants already have received approval by the ERC pursuant to 15 CFR part 744, Supplement No. 5, as noted in 15 CFR 744.16(b).

The removals from the Entity List granted by the ERC involve interagency deliberation and result from review of public and non-public sources, including sensitive law enforcement information and classified information, and the measurement of such information against the Entity List removal criteria. This information is extensively reviewed according to the criteria for evaluating removal requests from the Entity List, as set out in 15 CFR part 744, Supplement No. 5 and 15 CFR 744.16(b). For reasons of national security, BIS is not at liberty to provide to the public detailed information on which the ERC relied to make the decisions to remove these four entities. In addition, the information included in the removal request is information exchanged between the applicant and the ERC, which by law (section 12(c) of the Export Administration Act), BIS is restricted from sharing with the public. Moreover, removal requests from the Entity List contain confidential business information, which is necessary for the extensive review conducted by the U.S. Government in assessing such removal requests.

Section 553(d) of the APA generally provides that rules may not take effect earlier than thirty (30) days after they are published in the Federal Register. BIS finds good cause to waive the 30-day delay in effectiveness under 5 U.S.C. 553(d)(1) because this rule is a substantive rule which relieves a restriction. This rule's removal of four persons from the Entity List removes a requirement (the Entity-List-based license requirement and limitation on use of license exceptions) on these four persons being removed from the Entity List. The rule does not impose a requirement on any other person for these four removals from the Entity List.

No other law requires that a notice of proposed rulemaking and an opportunity for public comment be given for this final rule. Because a notice of proposed rulemaking and an opportunity for public comment are not required under the APA or by any other law, the analytical requirements of the Regulatory Flexibility Act (5 U.S.C. 601 et seq.) are not applicable. As a result, no final regulatory flexibility analysis is required and none has been prepared.

List of Subject in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. app. 2401 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 7, 2014, 79 FR 46959 (August 11, 2014); Notice of September 17, 2014, 79 FR 56475 (September 19, 2014); Notice of November 7, 2014, 79 FR 67035 (November 12, 2014); Notice of January 21, 2015, 80 FR 3461 (January 22, 2015).

2. Supplement No. 4 to part 744 is amended:

a. By adding under China, in alphabetical order, eight Chinese entities;

b. By removing under China, one Chinese entity, “Shanghai Hengtong Optics Technology Limited, a.k.a., the following two aliases:

—Shanghai Hengtong Group; and

—Shanghai Hengtong Optic-Electric Co., Ltd., 12F Tower A, Fareast International Plaza, 319 Xianxia Road, Shanghai, China.”;

c. By adding in alphabetical order the destination of South Korea under the Country Column, and two South Korean entities; and

d. By removing under United Arab Emirates, three Emerati entities, “Zener Electrical & Electronics, P.O. Box 389, Dubai, U.A.E.; and P.O. Box 3905, Abu Dhabi, U.A.E.; and Zener Electrical & Electronics Service Building, Liwa Street, Umm al Nar area, Abu Dhabi, U.A.E.”; “Zener Electronics Services, Al Sharafi Building, Khalid bin Walid Rd, Dubai, U.A.E.; and P.O. Box 389, Dubai, U.A.E.; and P.O. Box 3905, Abu Dhabi, U.A.E.; and Plot S20206, Dubai, U.A.E.”; and “Zener Navcom, P.O. Box 389, Dubai, U.A.E.; and P.O. Box 3905, Abu Dhabi, U.A.E.; and Plot S20206, Dubai, U.A.E.”.

The additions read as follows:

Supplement No. 4 to Part 744—Entity List
Country | Entity | License requirement | License review policy | Federal Register citation
* * * * * * *
* * * * * *
CHINA, PEOPLE'S REPUBLIC OF | Beijing FJR Optoelectronic Technology Company Ltd, a.k.a, the following three aliases: | For all items subject to the EAR. (See § 744.11 of the EAR). | Presumption of denial | 80 FR [INSERT FR PAGE NUMBER]; 7/28/2015.
| —FJIR Optoelectronic Technology Company Ltd.;
| —Beijing Fu Jerry; and
| —Fu Jirui. No. 2A Zhonghuan South Road, Wangjing, Chaoyang District, Beijing, China, 100102; and Room 302 Office, Bldg. 11, No. 4, Anningzhuang Rd, Beijing, China, 100085; and Beijing Shunyi district airport into 25-4, Huiyuan, 25th floor, 100028, Beijing; and 25-4 Yuhua Rd, 25th Floor, Shunyi District, Beijing, China 101318.
* * * * * *
| Beijing Opto-Electronics Technology Company, a.k.a., the following one alias: | For all items subject to the EAR. (See § 744.11 of the EAR). | Presumption of denial | 80 FR [INSERT FR PAGE NUMBER AND DATE]; 7/28/2015.
| —BOET
| No. 4, Jiuxianqiao Road, Chaoyang District, Beijing, China, 100015.
* * * * * *
| BOP Opto-Electronics Technology Company, a.k.a., the following one alias: | For all items subject to the EAR. (See § 744.11 of the EAR). | Presumption of denial | 80 FR [INSERT FR PAGE NUMBER]; 7/28/2015.
| —Beijing BOP Electro-Optics.
| No. 10, Jiuxianqiao North Road, Chaoyang District, Beijing, China, 100016; and
| No. 4 Jiuxianqiao Road, Chaoyang District, Beijing, China, 100015.
* * * * * *
| China Electronic Technology Group Corporation No. 11 Research Institute, a.k.a, the following three aliases, including the named subordinate institutions: | For all items subject to the EAR. (See § 744.11 of the EAR). | Presumption of denial | 80 FR [INSERT FR PAGE NUMBER]; 7/28/2015.
| —North China Research Institute of Electro-Optics (NCRIEO);
| —China North Research Institute of Electro-Optics; and
| —CETC 11th Research Institute (CETC 11th RI).
| Subordinate institution Beijing Laiyin Company Ltd, a.k.a., the following one alias,
| —Beijing North China Lai Yin Opto-Electronics Technology Company.
| Subordinate Institution: China Electronics Technology Corporation (CETC) Infrared Engineering and Technology Company, a.k.a., the following one alias:
| —CETC Infrared or CETC IR.
| No. 10, Jiuxianqiao North Road, Chaoyang District, Beijing, China, 100016; and
| No. 4 Jiuxianqiao Road, Chaoyang District, Beijing, China, 100015; and
| Electronic City of Zhong Guan Cun Technical Zone, Beijing, China, 100015.
* * * * * *
| China National Commercial New Tone Trading Company Ltd, Room 616, 2nd Building, No. 45 Fuxingmennei St, Beijing, China, 100801; and No. 45 Fuxing Mennei Avenue, Xicheng District, Beijing, China, 100801. | For all items subject to the EAR. (See § 744.11 of the EAR). | Presumption of denial | 80 FR [INSERT FR PAGE NUMBER]; 7/28/2015.
* * * * * *
| Fuyuan Huang, No. 2A Zhonghuan South Road, Wangjing, Chaoyang District, Beijing, China, 100102; and Room 302 Office, Bldg 11, No. 4, Anningzhuang Rd, Beijing, China, 100085. | For all items subject to the EAR. (See § 744.11 of the EAR). | Presumption of denial | 80 FR [INSERT FR PAGE NUMBER]; 7/28/2015.
* * * * * *
| Yin Zhao, No. 2A Zhonghuan South Road, Wangjing, Chaoyang District, Beijing, China, 100102; and Room 302 Office, Bldg 11, No. 4, Anningzhuang Rd, Beijing, China, 100085. | For all items subject to the EAR. (See § 744.11 of the EAR). | Presumption of denial | 80 FR [INSERT FR PAGE NUMBER]; 7/28/2015.
| Yiwu Tianying Optical Instrument Company, Room 301, 1 Unit, 18 Building, Houcheng Yi Qu, Jiangdong Street, Yiwu City, Zhejiang, China, 322000. | For all items subject to the EAR. (See § 744.11 of the EAR). | Presumption of denial | 80 FR [INSERT FR PAGE NUMBER]; 7/28/2015.
* * * * * * *
SOUTH KOREA | Korea Automation Industry (KAI), D-304, Songdo BRC Smart Valley 30 Songdomirae-ro Yeonsu-gu, Incheon, South Korea 406-840; and 4F Miejeong B/D, 405-216, MOK 1-Dong, Yangcheon-Ku, Seoul, South Korea; and Number 102-704, Daewoo 2nd, 925-7 Dongchundong, Yeonsu-Ku, Incheon, South Korea. | For all items subject to the EAR. (See § 744.11 of the EAR). | Presumption of denial | 80 FR [INSERT FR PAGE NUMBER]; 7/28/2015.
| Joseph Choi, aka Yo-so'p Ch'oe, D-304, Songdo BRC Smart Valley 30 Songdomirae-ro Yeonsu-gu, Incheon, South Korea 406-840; and 4F Miejeong B/D, 405-216, MOK 1-Dong, Yangcheon-Ku, Seoul, South Korea. | For all items subject to the EAR. (See § 744.11 of the EAR). | Presumption of denial | 80 FR [INSERT FR PAGE NUMBER]; 7/28/2015.
* * * * * * *

Dated: July 22, 2015.
Kevin J. Wolf,
Assistant Secretary for Export Administration.

[FR Doc. 2015-18511 Filed 7-27-15; 8:45 am]

BILLING CODE 3510-33-P